DEPARTMENT OF TRANSPORTATION

Federal Aviation Administration

14 CFR Part 71

[Docket No. FAA-2021-0648; Amendment No. 71-53]

RIN 2120-AA66

Airspace Designations; Incorporation by Reference Amendments

AGENCY: Federal Aviation Administration (FAA), DOT.

ACTION: Final rule, administrative correction.

SUMMARY: This action incorporates certain airspace designation amendments into FAA Order JO 7400.11F, dated August 10, 2021, and effective September 15, 2021, for incorporation by reference.

DATES: Effective date 0901 UTC October 4, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed on line at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Sarah A. Combs, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order JO 7400.11, Airspace Designations and Reporting Points, incorporated by reference in 14 CFR 71.1, is published yearly. Amendments referred to as “effective date straddling amendments” were published under Order JO 7400.11E (dated July 21, 2020, and effective September 15, 2020) but became effective under Order JO 7400.11F (dated August 10, 2021, and effective September 15, 2021). This action incorporates these rules into the current FAA Order JO 7400.11F.

Accordingly, as this is an administrative correction to update final rule amendments into FAA Order JO 7400.11F, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by incorporating certain final rules into the current FAA Order JO 7400.11F, Airspace Designations and Reporting Points, dated August 10, 2021, and effective September 15, 2021, which are depicted on aeronautical charts.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2021-0225; Airspace Docket No. 20-AAL-13 (86 FR 34130; June 29, 2021).

Correction

a. On page 34130, column 3, line 29, and line 42, under ADDRESSES, “. . . FAA Order 7400.11E . . .” is corrected to read “. . . FAA Order JO 7400.11F . . .”.

b. On page 34131, column 1, line 38, under History, “. . . FAA Order 7400.11E . . .” is corrected to read “. . . FAA Order JO 7400.11F . . .”.

c. On page 34131, column 1, line 60, and line 63, under Availability and Summary of Documents for Incorporation by Reference, “. . . FAA Order 7400.11E . . .” is corrected to read “. . . FAA Order JO 7400.11F . . .”.

d. On page 34131, column 1, line 47, under History, “. . . FAA Order 7400.11E, dated July 21, 2020, and effective September 15, 2020, . . .” is corrected to read “. . . FAA Order JO 7400.11F, dated August 10, 2021, and effective September 15, 2021 . . .”.

e. On page 34131, column 1, line 57, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

f. On page 34131, column 3, line 21, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

2. For Docket No. FAA-2021-0209; Airspace Docket No. 20-ANM-10 (86 FR 34625; June 30, 2021).

Correction

a. On page 34625, column 3, line 18, and line 31, under ADDRESSES, “. . . FAA Order 7400.11E . . .” is corrected to read “. . . FAA Order JO 7400.11F . . .”.

b. On page 34626, column 1, line 29, and line 32, under Availability and Summary of Documents for Incorporation by Reference, “. . . FAA Order 7400.11E . . .” is corrected to read “. . . FAA Order JO 7400.11F . . .”.

c. On page 34626, column 1, line 16, under History, “. . . FAA Order 7400.11E, dated July 21, 2020, and effective September 15, 2020, . . .” is corrected to read “. . . FAA Order JO 7400.11F, dated August 10, 2021, and effective September 15, 2021 . . .”.

d. On page 34626, column 1, line 26, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 34626, column 2, line 42, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

3. For Docket No. FAA-2021-0210; Airspace Docket No. 21-ANM-3 (86 FR 34626; June 30, 2021).

Correction

a. On page 34626, column 3, line 32, and line 45, under ADDRESSES, “. . . FAA Order 7400.11E . . .” is corrected to read “. . . FAA Order JO 7400.11F . . .”.

b. On page 34627, column 1, line 46, and line 49, under Availability and Summary of Documents for Incorporation by Reference, “. . . FAA Order 7400.11E . . .” is corrected to read “. . . FAA Order JO 7400.11F . . .”.

c. On page 34627, column 1, line 33, under History, “. . . FAA Order 7400.11E, dated July 21, 2020, and effective September 15, 2020, . . .” is corrected to read “. . . FAA Order JO 7400.11F, dated August 10, 2021, and effective September 15, 2021 . . .”.

d. On page 34627, column 1, line 43, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 34627, column 2, line 61, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

4. For Docket No. FAA-2020-1126; Airspace Docket No. 19-ANM-10 (86 FR 34937; July 1, 2021).

Correction

a. On page 34937, column 1, line 38, and line 51, under ADDRESSES, “. . . FAA Order 7400.11E . . .” is corrected to read “. . . FAA Order JO 7400.11F . . .”.

b. On page 34937, column 2, line, and line 4, under Availability and Summary of Documents for Incorporation by Reference, “. . . FAA Order 7400.11E . . .” is corrected to read “. . . FAA Order JO 7400.11F . . .”.

c. On page 34937, column 2, line 54, under History, “. . . FAA Order 7400.11E, dated July 21, 2020, and effective September 15, 2020, . . .” is corrected to read “. . . FAA Order JO 7400.11F, dated August 10, 2021, and effective September 15, 2021 . . .”.

d. On page 34937, column 2, line 64, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 34938, column 1, line 52, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

5. For Docket No. FAA-2021-0211; Airspace Docket No. 21-ANM-7 (86 FR 36212; July 9, 2021).

Correction

a. On page 36212, column 3, line 8, and line 21, under ADDRESSES, “. . . FAA Order 7400.11E . . .” is corrected to read “. . . FAA Order JO 7400.11F . . .”.

b. On page 36212, column 1, line 15, and line 18, under Availability and Summary of Documents for Incorporation by Reference, “. . . FAA Order 7400.11E . . .” is corrected to read “. . . FAA Order JO 7400.11F . . .”.

c. On page 36213, column 1, line 2, under History, “. . . FAA Order 7400.11E, dated July 21, 2020, and effective September 15, 2020, . . .” is corrected to read “. . . FAA Order JO 7400.11F, dated August 10, 2021, and effective September 15, 2021 . . .”.

d. On page 36213, column 1, line 12, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 36213, column 2, line 32, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

6. For Docket No. FAA-2021-0207; Airspace Docket No. 21-ANM-6 (86 FR 36210; July 9, 2021).

Correction

a. On page 36211, column 1, line 1, and line 14, under ADDRESSES, “. . . FAA Order 7400.11E . . .” is corrected to read “. . . FAA Order JO 7400.11F . . .”.

b. On page 36211, column 2, line 24, and line 27, under Availability and Summary of Documents for Incorporation by Reference, “. . . FAA Order 7400.11E . . .” is corrected to read “. . . FAA Order JO 7400.11F . . .”.

c. On page 36211, column 2, line 11, under History, “. . . FAA Order 7400.11E, dated July 21, 2020, and effective September 15, 2020, . . .” is corrected to read “. . . FAA Order JO 7400.11F, dated August 10, 2021, and effective September 15, 2021 . . .”.

d. On page 36211, column 2, line 21, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 36211, column 3, line 38, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

7. For Docket No. FAA-2020-0567; Airspace Docket No. 20-AAL-15 (86 FR 37235; July 15, 2021).

Correction

a. On page 37235, column 3, line 42, and line 55, under ADDRESSES, “. . . FAA Order 7400.11E . . .” is corrected to read “. . . FAA Order JO 7400.11F . . .”.

b. On page 37236, column 1, line 15, and line 18, under Availability and Summary of Documents for Incorporation by Reference, “. . . FAA Order 7400.11E . . .” is corrected to read “. . . FAA Order JO 7400.11F . . .”.

c. On page 36213, column 1, line51, under History, “. . . FAA Order 7400.11E, dated July 21, 2020, and effective September 15, 2020, . . .” is corrected to read “. . . FAA Order JO 7400.11F, dated August 10, 2021, and effective September 15, 2021 . . .”.

d. On page 37236, column 2, line 12, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 37237, column 2, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

8. For Docket No. FAA-2021-0292; Airspace Docket No. 21-AGL-22 (86 FR 37234; July 15, 2021).

Correction

a. On page 37234, column 2, line 15, and line 25, under ADDRESSES, “. . . FAA Order 7400.11E . . .” is corrected to read “. . . FAA Order JO 7400.11F . . .”.

b. On page 37234, column 3, line 42, and line 45, under Availability and Summary of Documents for Incorporation by Reference, “. . . FAA Order 7400.11E . . .” is corrected to read “. . . FAA Order JO 7400.11F . . .”.

c. On page 37234, column 2, line 30, under History, “. . . FAA Order 7400.11E, dated July 21, 2020, and effective September 15, 2020, . . .” is corrected to read “. . . FAA Order JO 7400.11F, dated August 10, 2021, and effective September 15, 2021 . . .”.

d. On page 37234, column 2, line 39, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 37235, column 2, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

9. For Docket No. FAA-2020-1156; Airspace Docket No. 20-ANE-7 (86 FR 38229; July 20, 2021).

Correction

a. On page 38229, column 1, line 30, and line 43, under ADDRESSES, “. . . FAA Order 7400.11E . . .” is corrected to read “. . . FAA Order JO 7400.11F . . .”.

b. On page 38229, column 2, line 48, and line 51, under Availability and Summary of Documents for Incorporation by Reference, “. . . FAA Order 7400.11E . . .” is corrected to read “. . . FAA Order JO 7400.11F . . .”.

c. On page 38229, column 2, line 35, under History, “. . . FAA Order 7400.11E, dated July 21, 2020, and effective September 15, 2020, . . .” is corrected to read “. . . FAA Order JO 7400.11F, dated August 10, 2021, and effective September 15, 2021 . . .”.

d. On page 38229, column 2, line 45, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 38229, column 3, line 63, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

10. For Docket No. FAA-2021-0004; Airspace Docket No. 20-AAL-55 (86 FR 38919; July 23, 2021).

Correction

a. On page 38919, column 3, line 12, and line 25, under ADDRESSES, “. . . FAA Order 7400.11E . . .” is corrected to read “. . . FAA Order JO 7400.11F . . .”.

b. On page 38920, column 1, line 19, and line 22, under Availability and Summary of Documents for Incorporation by Reference, “. . . FAA Order 7400.11E . . .” is corrected to read “. . . FAA Order JO 7400.11F . . .”.

c. On page 38920, column 1, line 6, under History, “. . . FAA Order 7400.11E, dated July 21, 2020, and effective September 15, 2020, . . .” is corrected to read “. . . FAA Order JO 7400.11F, dated August 10, 2021, and effective September 15, 2021 . . .”.

d. On page 38920, column 1, line 16, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 38920, column 2, line 35, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

11. For Docket No. FAA-2020-1208; Airspace Docket No. 20-AAL-46 (86 FR 38918; July 23, 2021).

Correction

a. On page 38918, column 2, line 31, and line 44, under ADDRESSES, “. . . FAA Order 7400.11E . . .” is corrected to read “. . . FAA Order JO 7400.11F . . .”.

b. On page 38918, column 3, line 42, and line 45, under Availability and Summary of Documents for Incorporation by Reference, “. . . FAA Order 7400.11E . . .” is corrected to read “. . . FAA Order JO 7400.11F . . .”.

c. On page 38918, column 3, line 29, under History, “. . . FAA Order 7400.11E, dated July 21, 2020, and effective September 15, 2020, . . .” is corrected to read “. . . FAA Order JO 7400.11F, dated August 10, 2021, and effective September 15, 2021 . . .”.

d. On page 38918, column 3, line 39, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 38919, column 2, line 12, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

12. For Docket No. FAA-2021-0003; Airspace Docket No. 21-ACE-5 (86 FR 38916; July 23, 2021).

Correction

a. On page 38916, column 3, line 19, and line 32, under ADDRESSES, “. . . FAA Order 7400.11E . . .” is corrected to read “. . . FAA Order JO 7400.11F . . .”.

b. On page 38917, column 1, line 44, and line 47, under Availability and Summary of Documents for Incorporation by Reference, “. . . FAA Order 7400.11E . . .” is corrected to read “. . . FAA Order JO 7400.11F . . .”.

c. On page 38917, column 1, line 31, under History, “. . . FAA Order 7400.11E, dated July 21, 2020, and effective September 15, 2020, . . .” is corrected to read “. . . FAA Order JO 7400.11F, dated August 10, 2021, and effective September 15, 2021 . . .”.

d. On page 38917, column 1, line 41, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 38917, column 3, line 34, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

13. For Docket No. FAA-2021-0081; Airspace Docket No. 20-AAL-61 (86 FR 39956; July 26, 2021).

Correction

a. On page 39956, column 1, line 35, and line 48, under ADDRESSES, “. . . FAA Order 7400.11E . . .” is corrected to read “. . . FAA Order JO 7400.11F . . .”.

b. On page 39956, column 2, line 48, and line 51, under Availability and Summary of Documents for Incorporation by Reference, “. . . FAA Order 7400.11E . . .” is corrected to read “. . . FAA Order JO 7400.11F . . .”.

c. On page 39956, column 2, line 35, under History, “. . . FAA Order 7400.11E, dated July 21, 2020, and effective September 15, 2020, . . .” is corrected to read “. . . FAA Order JO 7400.11F, dated August 10, 2021, and effective September 15, 2021 . . .”.

d. On page 39956, column 2, line 45, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39957, column 1, line 12, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

14. For Docket No. FAA-2020-1100; Airspace Docket No. 20-AGL-1 (86 FR 39949; July 26, 2021).

Correction

a. On page 39949, column 3, line 46, and line 59, under ADDRESSES, “. . . FAA Order 7400.11E . . .” is corrected to read “. . . FAA Order JO 7400.11F . . .”.

b. On page 39950, column 1, line 64, and column 2, line 1, under Availability and Summary of Documents for Incorporation by Reference, “. . . FAA Order 7400.11E . . .” is corrected to read “. . . FAA Order JO 7400.11F . . .”.

c. On page 39950, column 1, line 51, under History, “. . . FAA Order 7400.11E, dated July 21, 2020, and effective September 15, 2020, . . .” is corrected to read “. . . FAA Order JO 7400.11F, dated August 10, 2021, and effective September 15, 2021 . . .”.

d. On page 39950, column 1, line 61, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39951, column 2, line 25, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

15. For Docket No. FAA-2020-1081; Airspace Docket No. 20-AEA-19 (86 FR 39957; July 26, 2021).

Correction

a. On page 39957, column 2, line 13, and line 26, under ADDRESSES, “. . . FAA Order 7400.11E . . .” is corrected to read “. . . FAA Order JO 7400.11F . . .”.

b. On page 39957, column 3, line 29, and line 32, under Availability and Summary of Documents for Incorporation by Reference, “. . . FAA Order 7400.11E . . .” is corrected to read “. . . FAA Order JO 7400.11F . . .”.

c. On page 39957, column 3, line 16, under History, “. . . FAA Order 7400.11E, dated July 21, 2020, and effective September 15, 2020, . . .” is corrected to read “. . . FAA Order JO 7400.11F, dated August 10, 2021, and effective September 15, 2021 . . .”.

d. On page 39957, column 3, line 26, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39958, column 3, line 12, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

16. For Docket No. FAA-2021-0250; Airspace Docket No. 20-AEA-22 (86 FR 39953; July 26, 2021).

Correction

a. On page 39953, column 2, line 56, and column 3, line 17, under ADDRESSES, “. . . FAA Order 7400.11E . . .” is corrected to read “. . . FAA Order JO 7400.11F . . .”.

b. On page 39954, column 1, line 38, and line 41, under Availability and Summary of Documents for Incorporation by Reference, “. . . FAA Order 7400.11E . . .” is corrected to read “. . . FAA Order JO 7400.11F . . .”.

c. On page 39954, column 1, line 25, under History, “. . . FAA Order 7400.11E, dated July 21, 2020, and effective September 15, 2020, . . .” is corrected to read “. . . FAA Order JO 7400.11F, dated August 10, 2021, and effective September 15, 2021 . . .”.

d. On page 39954, column 1, line 35, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39954, column 3, line 54, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

17. For Docket No. FAA-2021-0360; Airspace Docket No. 21-AEA-6 (86 FR 39958; July 26, 2021).

Correction

a. On page 39958, column 2, line 42, and line 55, under ADDRESSES, “. . . FAA Order 7400.11E . . .” is corrected to read “. . . FAA Order JO 7400.11F . . .”.

b. On page 39959, column 1, line 17, and line 20, under Availability and Summary of Documents for Incorporation by Reference, “. . . FAA Order 7400.11E . . .” is corrected to read “. . . FAA Order JO 7400.11F . . .”.

c. On page 39959, column 1, line 4, under History, “. . . FAA Order 7400.11E, dated July 21, 2020, and effective September 15, 2020, . . .” is corrected to read “. . . FAA Order JO 7400.11F, dated August 10, 2021, and effective September 15, 2021 . . .”.

d. On page 39959, column 1, line 14, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39959, column 3, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

18. For Docket No. FAA-2020-1147; Airspace Docket No. 20-ASO-30 (86 FR 39952; July 26, 2021).

Correction

a. On page 39952, column 1, line 37, and line 50, under ADDRESSES, “. . . FAA Order 7400.11E . . .” is corrected to read “. . . FAA Order JO 7400.11F . . .”.

b. On page 39952, column 2, line 52, and line 55, under Availability and Summary of Documents for Incorporation by Reference, “. . . FAA Order 7400.11E . . .” is corrected to read “. . . FAA Order JO 7400.11F . . .”.

c. On page 39952, column 2, line 39, under History, “. . . FAA Order 7400.11E, dated July 21, 2020, and effective September 15, 2020, . . .” is corrected to read “. . . FAA Order JO 7400.11F, dated August 10, 2021, and effective September 15, 2021 . . .”.

d. On page 39952, column 2, line 49, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 39953, column 3, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

19. For Docket No. FAA-2020-1071; Airspace Docket No. 20-ACE-13 (86 FR 40145; July 27, 2021).

Correction

a. On page 40145, column 1, line 40, and line 53, under ADDRESSES, “. . . FAA Order 7400.11E . . .” is corrected to read “. . . FAA Order JO 7400.11F . . .”.

b. On page 40145, column 2, line 56, and line 59, under Availability and Summary of Documents for Incorporation by Reference, “. . . FAA Order 7400.11E . . .” is corrected to read “. . . FAA Order JO 7400.11F . . .”.

c. On page 40145, column 2, line 43, under History, “. . . FAA Order 7400.11E, dated July 21, 2020, and effective September 15, 2020, . . .” is corrected to read “. . . FAA Order JO 7400.11F, dated August 10, 2021, and effective September 15, 2021 . . .”.

d. On page 40145, column 2, line 53, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40146, column 3, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

20. For Docket No. FAA-2021-0054; Airspace Docket No. 20-AGL-34 (86 FR 40143; July 27, 2021).

Correction

a. On page 40143, column 1, line 38, and line 51, under ADDRESSES, “. . . FAA Order 7400.11E . . .” is corrected to read “. . . FAA Order JO 7400.11F . . .”.

b. On page 40143, column 2, line 61, and line 64, under Availability and Summary of Documents for Incorporation by Reference, “. . . FAA Order 7400.11E . . .” is corrected to read “. . . FAA Order JO 7400.11F . . .”.

c. On page 40143, column 2, line 39, under History, “. . . FAA Order 7400.11E, dated July 21, 2020, and effective September 15, 2020, . . .” is corrected to read “. . . FAA Order JO 7400.11F, dated August 10, 2021, and effective September 15, 2021 . . .”.

d. On page 40143, column 2, line 58, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40144, column 3, line 16, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

21. For Docket No. FAA-2021-0119; Airspace Docket No. 21-AEA-3 (86 FR 40146; July 27, 2021).

Correction

a. On page 40146, column 3, line 31, and line 44, under ADDRESSES, “. . . FAA Order 7400.11E . . .” is corrected to read “. . . FAA Order JO 7400.11F . . .”.

b. On page 40147, column 1, line 55, and line 58, under Availability and Summary of Documents for Incorporation by Reference, “. . . FAA Order 7400.11E . . .” is corrected to read “. . . FAA Order JO 7400.11F . . .”.

c. On page 40147, column 1, line 42, under History, “. . . FAA Order 7400.11E, dated July 21, 2020, and effective September 15, 2020, . . .” is corrected to read “. . . FAA Order JO 7400.11F, dated August 10, 2021, and effective September 15, 2021 . . .”.

d. On page 40147, column 1, line 52, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40147, column 3, line 12, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

22. For Docket No. FAA-2021-0274; Airspace Docket No. 20-ANM-58 (86 FR 40307; July 28, 2021).

Correction

a. On page 40307, column 2, line 41, and line 54, under ADDRESSES, “. . . FAA Order 7400.11E . . .” is corrected to read “. . . FAA Order JO 7400.11F . . .”.

b. On page 40307, column 3, line 52, and line 55, under Availability and Summary of Documents for Incorporation by Reference, “. . . FAA Order 7400.11E . . .” is corrected to read “. . . FAA Order JO 7400.11F . . .”.

c. On page 40307, column 3, line 39, under History, “. . . FAA Order 7400.11E, dated July 21, 2020, and effective September 15, 2020, . . .” is corrected to read “. . . FAA Order JO 7400.11F, dated August 10, 2021, and effective September 15, 2021 . . .”.

d. On page 40307, column 3, line 49, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40308, column 2, line 28, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

23. For Docket No. FAA-2021-0295; Airspace Docket No. 21-ANE-2 (86 FR 40306; July 28, 2021).

Correction

a. On page 40306, column 1, line 48, and column 1, line 50, under ADDRESSES, “. . . FAA Order 7400.11E. . .” is corrected to read “. . . FAA Order JO 7400.11F . . .”.

b. On page 40306, column 3, line 7, and line 10, under Availability and Summary of Documents for Incorporation by Reference, “. . . FAA Order 7400.11E . . .” is corrected to read “. . . FAA Order JO 7400.11F . . .”.

c. On page 40306, column 2, line 57, under History, “. . . FAA Order 7400.11E, dated July 21, 2020, and effective September 15, 2020, . . .” is corrected to read “. . . FAA Order JO 7400.11F, dated August 10, 2021, and effective September 15, 2021 . . .”.

d. On page 40306, column 3, line 4, under Availability and Summary of Documents for Incorporation by Reference, “. . .FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40307, column 1, line 32, under Amendatory Instruction 2, “. . .FAA Order 7400.11E, Airspace Designations and Reporting Points, dated July 21, 2020, and effective September 15, 2020, . . .” is corrected to read “. . .FAA Order JO 7400.11F, Airspace Designations and Reporting Points, dated August 10, 2021, and effective September 15, 2021, . . .”.

24. For Docket No. FAA-2020-0544; Airspace Docket No. 19-AAL-93 (86 FR 40782; July 29, 2021).

Correction

a. On page 40782, column 3, line 31, and line 34, under ADDRESSES, “. . . FAA Order 7400.11E. . .” is corrected to read “. . . FAA Order JO 7400.11F . . .”.

b. On page 40783, column 1, line 48, and line 51, under Availability and Summary of Documents for Incorporation by Reference, “. . . FAA Order 7400.11E. . .” is corrected to read “. . . FAA Order JO 7400.11F . . .”.

c. On page 40783, column 1, line 35, under History, “. . . FAA Order 7400.11E, dated July 21, 2020, and effective September 15, 2020, . . .” is corrected to read “. . . FAA Order JO 7400.11F, dated August 10, 2021, and effective September 15, 2021 . . .”.

d. On page 40783, column 1, line 45, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 40783, column 3, line 12, under Amendatory Instruction 2, “. . .FAA Order 7400.11E, Airspace Designations and Reporting Points, dated July 21, 2020, and effective September 15, 2020,. . .” is corrected to read “. . . FAA Order JO 7400.11F, Airspace Designations and Reporting Points, dated August 10, 2021, and effective September 15, 2021, . . .”.

25. For Docket No. FAA-2020-0567; Airspace Docket No. 20-AAL-15 (86 FR 40783; July 29, 2021).

Correction

a. On page 40784, column 1, line 8, and line 21, under ADDRESSES, “. . . FAA Order 7400.11E . . .” is corrected to read “. . . FAA Order JO 7400.11F . . .”.

b. On page 40784, column 2, line 15, and line 18, under Availability and Summary of Documents for Incorporation by Reference, “. . . FAA Order 7400.11E. . .” is corrected to read “. . . FAA Order JO 7400.11F . . .”.

c. On page 40784, column 2, line 2, under History, “. . . FAA Order 7400.11E, dated July 21, 2020, and effective September 15, 2020, . . .” is corrected to read “. . . FAA Order JO 7400.11F, dated August 10, 2021, and effective September 15, 2021 . . .”.

d. On page 40784, column 2, line 12, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

26. For Docket No. FAA-2021-0328; Airspace Docket No. 21-ASO-5 (86 FR 41705; August 3, 2021).

Correction

a. On page 41705, column 1, line 39, and line 52, under ADDRESSES, “. . . FAA Order 7400.11E . . .” is corrected to read “. . . FAA Order JO 7400.11F . . .”.

b. On page 41706, column 1, line 64, and column 2, line 1, under Availability and Summary of Documents for Incorporation by Reference, “. . . FAA Order 7400.11E . . .” is corrected to read “. . . FAA Order JO 7400.11F . . .”.

c. On page 41706, column 1, line 51, under History, “. . . FAA Order 7400.11E, dated July 21, 2020, and effective September 15, 2020, . . .” is corrected to read “. . . FAA Order JO 7400.11F, dated August 10, 2021, and effective September 15, 2021 . . .”.

d. On page 41706, column 1, line 61, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41706, column 3, line 16, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

27. For Docket No. FAA-2021-0355; Airspace Docket No. 21-AEA-7 (86 FR 41704; August 3, 2021).

Correction

a. On page 41704, column 2, line 55, and column 3, line 6, under ADDRESSES, “. . . FAA Order 7400.11E. . .” is corrected to read “. . . FAA Order JO 7400.11F . . .”.

b. On page 41704, column 3, line 7, and line 10, under Availability and Summary of Documents for Incorporation by Reference, “. . . FAA Order 7400.11E . . .” is corrected to read “. . . FAA Order JO 7400.11F . . .”.

c. On page 41704, column 3, line 58, under History, “. . . FAA Order 7400.11E, dated July 21, 2020, and effective September 15, 2020, . . .” is corrected to read “. . . FAA Order JO 7400.11F, dated August 10, 2021, and effective September 15, 2021 . . .”.

d. On page 41704, column 3, line 4, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41705, column 3, line 32, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

28. For Docket No. FAA-2021-0386; Airspace Docket No. 21-ASW-8 (86 FR 41707; August 3, 2021).

Correction

a. On page 41707, column 1, line 38, and line 51, under ADDRESSES, “. . . FAA Order 7400.11E . . .” is corrected to read “. . . FAA Order JO 7400.11F . . .”.

b. On page 41707, column 2, line 52, and line 55, under Availability and Summary of Documents for Incorporation by Reference, “. . . FAA Order 7400.11E . . .” is corrected to read “. . . FAA Order JO 7400.11F . . .”.

c. On page 41707, column 2, line 39, under History, “. . . FAA Order 7400.11E, dated July 21, 2020, and effective September 15, 2020, . . .” is corrected to read “. . . FAA Order JO 7400.11F, dated August 10, 2021, and effective September 15, 2021 . . .”.

d. On page 41707, column 2, line 49, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41707, column 1, line 12, under Amendatory Instruction 2, “. . .FAA Order 7400.11E, Airspace Designations and Reporting Points, dated July 21, 2020, and effective September 15, 2020, . . .” is corrected to read“. . . FAA Order JO 7400.11F, Airspace Designations and Reporting Points, dated August 10, 2021, and effective September 15, 2021, . . .”.

29. For Docket No. FAA-2021-0385; Airspace Docket No. 21-AGL-21 (86 FR 41702; August 3, 2021).

Correction

a. On page 41702, column 1, line 36, and line 49, under ADDRESSES, “. . . FAA Order 7400.11E . . .” is corrected to read “. . . FAA Order JO 7400.11F . . .”.

b. On page 41703, column 1, line 62, and line 65, under Availability and Summary of Documents for Incorporation by Reference, “. . . FAA Order 7400.11E. . .” is corrected to read “. . . FAA Order JO 7400.11F . . .”.

c. On page 41703, column 1, line 48, under History, “. . . FAA Order 7400.11E, dated July 21, 2020, and effective September 15, 2020, . . .” is corrected to read “. . . FAA Order JO 7400.11F, dated August 10, 2021, and effective September 15, 2021 . . .”.

d. On page 41703, column 1, line 59, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41704, column 1, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

30. For Docket No. FAA-2021-0387; Airspace Docket No. 21-AGL-24 (86 FR 41712; August 3, 2021).

Correction

a. On page 41712, column 1, line 41, and line 54, under ADDRESSES, “. . . FAA Order 7400.11E . . .” is corrected to read “. . . FAA Order JO 7400.11F . . .”.

b. On page 41712, column 2, line 7, and line 10, under Availability and Summary of Documents for Incorporation by Reference, “. . . FAA Order 7400.11E . . .” is corrected to read “. . .FAA Order JO 7400.11F . . .”.

c. On page 41712, column 2, line 58, under History, “. . . FAA Order 7400.11E, dated July 21, 2020, and effective September 15, 2020, . . .” is corrected to read “. . . FAA Order JO 7400.11F, dated August 10, 2021, and effective September 15, 2021 . . .”.

d. On page 41712, column 3, line 4, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41713, column 2, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

31. For Docket No. FAA-2021-0413; Airspace Docket No. 21-ASW-9 (86 FR 41709; August 3, 2021).

Correction

a. On page 41709, column 3, line 33, and on page 41710, column 1, line 7, under ADDRESSES, “. . . FAA Order 7400.11E . . .” is corrected to read “. . . FAA Order JO 7400.11F . . .”.

b. On page 41710, column 2, line 12, and line 15, under Availability and Summary of Documents for Incorporation by Reference, “. . . FAA Order 7400.11E . . .” is corrected to read “. . . FAA Order JO 7400.11F . . .”.

c. On page 41710, column 1, line 65, under History, “. . . FAA Order 7400.11E, dated July 21, 2020, and effective September 15, 2020, . . .” is corrected to read “. . . FAA Order JO 7400.11F, dated August 10, 2021, and effective September 15, 2021 . . .”.

d. On page 41710, column 2, line 9, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41711, column 2, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

32. For Docket No. FAA-2020-1155; Airspace Docket No. 20-ASO-28 (86 FR 41708; August 3, 2021).

Correction

a. On page 41708, column 2, line 5, and line 18, under ADDRESSES, “. . . FAA Order 7400.11E. . .” is corrected to read “. . . FAA Order JO 7400.11F . . .”.

b. On page 41708, column 3, line 13, and line 16, under Availability and Summary of Documents for Incorporation by Reference, “. . . FAA Order 7400.11E . . .” is corrected to read “. . . FAA Order JO 7400.11F . . .”.

c. On page 41708, column 2, line 66, under History, “. . . FAA Order 7400.11E, dated July 21, 2020, and effective September 15, 2020, . . .” is corrected to read “. . . FAA Order JO 7400.11F, dated August 10, 2021, and effective September 15, 2021 . . .”.

d. On page 41708, column 3, line 10, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41709, column 3, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

33. For Docket No. FAA-2021-0417; Airspace Docket No. 21-AGL-23 (86 FR 41894; August 4, 2021).

Correction

a. On page 41894, column 1, line 47, and column 2, line 1, under ADDRESSES, “. . . FAA Order 7400.11E . . .” is corrected to read “. . . FAA Order JO 7400.11F . . .”.

b. On page 41894, column 3, line 63, and line 66, under Availability and Summary of Documents for Incorporation by Reference, “. . . FAA Order 7400.11E . . .” is corrected to read “. . . FAA Order JO 7400.11F . . .”.

c. On page 41894, column 2, line 50, under History, “. . . FAA Order 7400.11E, dated July 21, 2020, and effective September 15, 2020, . . .” is corrected to read “. . . FAA Order JO 7400.11F, dated August 10, 2021, and effective September 15, 2021 . . .”.

d. On page 41894, column 3, line 60, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 41895, column 1, line 16, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

34. For Docket No. FAA-2021-0418; Airspace Docket No. 21-ACE-12 (86 FR 43411; August 9, 2021).

Correction

a. On page 43411, column 2, line 43, and line 56, under ADDRESSES, “. . . FAA Order 7400.11E. . .” is corrected to read “. . . FAA Order JO 7400.11F . . .”.

b. On page 43411, column 3, line 59, and line 62, under Availability and Summary of Documents for Incorporation by Reference, “. . . FAA Order 7400.11E . . .” is corrected to read “. . . FAA Order JO 7400.11F . . .”.

c. On page 43411, column 2, line 46, under History, “. . . FAA Order 7400.11E, dated July 21, 2020, and effective September 15, 2020, . . .” is corrected to read “. . . FAA Order JO 7400.11F, dated August 10, 2021, and effective September 15, 2021 . . .”.

d. On page 43411, column 3, line 56, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 43412, column 2, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

35. For Docket No. FAA-2020-1147; Airspace Docket No. 20-ASO-30 (86 FR 48300; August 30, 2021).

Correction

a. On page 48300, column 2, line 18, and line 31, under ADDRESSES, “. . . FAA Order 7400.11E . . .” is corrected to read “. . . FAA Order JO 7400.11F . . .”.

b. On page 48300, column 3, line 26, and line 29, under Availability and Summary of Documents for Incorporation by Reference, “. . . FAA Order 7400.11E . . .” is corrected to read “. . . FAA Order JO 7400.11F . . .”.

c. On page 48300, column 3, line 13, under History, “. . . FAA Order 7400.11E, dated July 21, 2020, and effective September 15, 2020, . . .” is corrected to read “. . . FAA Order JO 7400.11F, dated August 10, 2021, and effective September 15, 2021 . . .”.

d. On page 48300, column 3, line 23, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

36. For Docket No. FAA-2021-0278; Airspace Docket No. 21-ACE-10 (86 FR 48493; August 31, 2021).

Correction

a. On page 48493, column 2, line 38, and line 51, under ADDRESSES, “. . . FAA Order 7400.11E . . .” is corrected to read “. . . FAA Order JO 7400.11F . . .”.

b. On page 48493, column 3, line 57, and line 60, under Availability and Summary of Documents for Incorporation by Reference, “. . . FAA Order 7400.11E . . .” is corrected to read “. . . FAA Order JO 7400.11F . . .”.

c. On page 48493, column 3, line 39, under History, “. . . FAA Order 7400.11E, dated July 21, 2020, and effective September 15, 2020, . . .” is corrected to read “. . . FAA Order JO 7400.11F, dated August 10, 2021, and effective September 15, 2021 . . .”.

d. On page 48493, column 3, line 54, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 48494, column 2, line 12, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

37. For Docket No. FAA-2021-0159; Airspace Docket No. 21-ACE-6 (86 FR 48496; August 31, 2021).

Correction

a. On page 48496, column 3, line 59, and on page 48497, column 1, line 10, under ADDRESSES, “. . . FAA Order 7400.11E . . .” is corrected to read “. . . FAA Order JO 7400.11F . . .”.

b. On page 48497, column 2, line 7, and line 10, under Availability and Summary of Documents for Incorporation by Reference, “. . . FAA Order 7400.11E . . .” is corrected to read “. . . FAA Order JO 7400.11F . . .”.

c. On page 48497, column 1, line 59, under History, “. . . FAA Order 7400.11E, dated July 21, 2020, and effective September 15, 2020, . . .” is corrected to read “. . . FAA Order JO 7400.11F, dated August 10, 2021, and effective September 15, 2021. . .”.

d. On page 48497, column 2, line 4, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 48497, column 3, line 22, under Amendatory Instruction 2, “. . . FAA Order 7400.11E, Airspace Designations and Reporting Points, dated July 21, 2020, and effective September 15, 2020, . . .” is corrected to read“. . . FAA Order JO 7400.11F, Airspace Designations and Reporting Points, dated August 10, 2021, and effective September 15, 2021, . . .”.

38. For Docket No. FAA-2021-0277; Airspace Docket No. 21-AGL-19 (86 FR 48494; August 31, 2021).

Correction

a. On page 48494, column 3, line 3, and line 16, under ADDRESSES, “. . . FAA Order 7400.11E . . .” is corrected to read “. . . FAA Order JO 7400.11F . . .”.

b. On page 48495, column 1, line 13, and line 16, under Availability and Summary of Documents for Incorporation by Reference, “. . . FAA Order 7400.11E . . .” is corrected to read “. . . FAA Order JO 7400.11F . . .”.

c. On page 48494, column 3, line 66, under History, “. . . FAA Order 7400.11E, dated July 21, 2020, and effective September 15, 2020, . . .” is corrected to read “. . . FAA Order JO 7400.11F, dated August 10, 2021, and effective September 15, 2021 . . .”.

d. On page 48495, column 1, line 10, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 48495, column 2, line 25, under Amendatory Instruction 2, “. . .FAA Order 7400.11E, Airspace Designations and Reporting Points, dated July 21, 2020, and effective September 15, 2020,. . .” is corrected to read“. . .FAA Order JO 7400.11F, Airspace Designations and Reporting Points, dated August 10, 2021, and effective September 15, 2021,...”.

39. For Docket No. FAA-2021-0235; Airspace Docket No. 21-AGL-18 (86 FR 48905; September 1, 2021).

Correction

a. On page 48905, column 1, line 41, and line 54, under ADDRESSES, “. . . FAA Order 7400.11E. . .” is corrected to read “. . . FAA Order JO 7400.11F . . .”.

b. On page 48905, column 2, line 53, and line 56, under Availability and Summary of Documents for Incorporation by Reference, “. . . FAA Order 7400.11E . . .” is corrected to read “. . . FAA Order JO 7400.11F . . .”.

c. On page 48905, column 2, line 40, under History, “. . . FAA Order 7400.11E, dated July 21, 2020, and effective September 15, 2020, . . .” is corrected to read “. . . FAA Order JO 7400.11F, dated August 10, 2021, and effective September 15, 2021 . . .”.

d. On page 48905, column 2, line 50, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 48906, column 1, line 3, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

Issued in Washington, DC on, September 27, 2021.
Michael R. Beckles,
Acting Manager, Rules and Regulations Group.

[FR Doc. 2021-21351 Filed 10-1-21; 8:45 am]

BILLING CODE 4910-13-P